DEPARTMENT OF THE TREASURY

Office of Thrift Supervision

[AC-46: OTS No. 08283]

Ideal Federal Savings Bank, Baltimore, MD; Approval of Conversion Application

Notice is hereby given that on May 24, 2010, the Office of Thrift Supervision approved the application of Ideal Federal Savings Bank, Baltimore, Maryland, to convert to the stock form of organization. Copies of the application are available for inspection by appointment (phone number: (202) 906-5922 or e-mail: pub1ic.info@ots.treas.gov) at the Public Reading Room, 1700 G Street, NW., Washington, DC 20552, and the OTS Southeast Regional Office, 1475 Peachtree Street, NE., Atlanta, Georgia 30309.

Dated: May 26, 2010.
By the Office of Thrift Supervision.
Sandra E. Evans,
Federal Register Liaison.

[FR Doc. 2010-13216 Filed 6-2-10; 8:45 am]

BILLING CODE 6720-01-M